ENVIRONMENTAL PROTECTION AGENCY

[ER-FRL-6614-9]

Environmental Impact Statements; Notice of Availability

Responsible Agency: Office of Federal Activities, General Information (202) 564-7167 OR www.epa.gov/oeca/ofa.

Weekly receipt of Environmental Impact Statements

Filed January 16, 2001 Through January 19, 2001

Pursuant to 40 CFR 1506.9.

Note: This notice of availability of EPA EISs filed during the week of January 16, 2001 through January 19, 2001 which should have appeared in the January 26, 2001 Federal Register is appearing in the February 2, 2001 Federal Register. The 45-day review period and 30-day wait periods will be calculated from January 26, 2001.

EIS No. 010019, DRAFT EIS, EDA, CT, Adrian's Landing Project, Development from Columbus Boulevard south of the Founders Bridge and Riverfront Plaza, City of Hartford, CT, Due: March 12, 2001, Contact: Dennis Johnson (860) 522-4888.

This EIS should have appeared in the FR on 01/26/2001. The 45-day Review Period is Calculated from 01/26/2001.

EIS No. 010020, DRAFT SUPPLEMENT, EPA, MO, Lower Meramec Basin Wastewater Management Plan, Proposed New Regional Wastewater Treatment Plan and Associated Facilities, St. Louis and Jefferson Counties, MO, Due: March 12, 2001, Contact: Joe Cothern (913) 551-7148.

This EIS should have appeared in the FR on 01/26/2001. The 45-day Review Period is Calculated from 01/26/2001.

EIS No. 010021, DRAFT EIS, IBR, SD, Angostura Unit—(Dam, Reservoir and Irrigation Facilities) Renewal of a Long-Term Water Service Contract, Cheyenne River Basin, Pine Ridge Reservation, Bismarck County, SD, Due: April 27, 2001, Contact: Kenneth Parr (605) 394-9751.

This EIS should have appeared in the FR on 01/26/2001. The 45-day Review Period is Calculated from 01/26/2001.

EIS No. 010022, FINAL EIS, FHW, MN, TH-23 Reconstruction, MN-TH-22 in Richmond extending through the Cities of Richmond, Cold Spring and Rockville to I-94, Funding, Stearns County, MN, Due: February 26, 2001, Contact: Cheryl Martin (651) 291-6120.

This EIS should have appeared in the FR on 01/26/2001. The 30-day Wait Period is Calculated from 01/26/2001.

EIS No. 010023, FOURTH DRAFT SUPPLEMENT, NOA, AK, Groundfish Fishery Management Plan, Implementation, Bering Sea and Aleutian Islands, AK, Due: April 26, 2001, Contact: James W. Balsiger (907) 586-7221.

This EIS should have appeared in the FR on 01/26/2001. The 45-day Review Period is Calculated from 02/26/2001.

EIS No. 010024, DRAFT EIS, FAA, CA, Los Angeles International Airports, Proposed Master Plan Improvements on Runway, New Taxiways, New Terminal, New Air Cargo and Maintenance, Funding, Los Angeles, Los Angeles County, CA, Due: July 25, 2001, Contact: David B. Kessler (310) 725-3615.

This EIS should have appeared in the FR on 01/26/2001. The 45-day Review Period is Calculated from 01/26/2001.

EIS No. 010025, DRAFT EIS, FHW, MI, M-24 Reconstruction Project, From One Mile North of the Oakland County Line to I-69, Funding, Lapeer County, MI, Due: March 12, 2001, Contact: James A. Kirschensteiner (517) 377-1880.

This EIS should have appeared in the FR on 01/26/2001. The 45-day Review Period is Calculated from 01/26/2001.

EIS No. 010026, FINAL EIS, USN, Surveillance Towed Array Sensor System (SURTASS) Low Frequency Active (LFA), To Improved Capability to Detect Quiter and Harder-to-Find Foreign Submarines, Implementation, Due: February 26, 2001, Contact: J. S. Johnson (703) 601-1687.

This EIS should have appeared in the FR on 01/26/2001. The 30-day Wait Period is Calculated from 01/26/2001.

Amended Notices

EIS No. 010003, DRAFT EIS, NOA, HI, GU, AS, Coral Reef Ecosystems of the Western Pacific Region, Fishery Management Plan, Including Amendments to Four Existing (FMPs), Amendment 7—Bottomfish and Seamount Groundfish Fisheries, Amendment 11—Crustaceans Fisheries; Amendment 5—Precious Corals Fisheries and Amendment 10—Pelagics Fisheries, HI, GU and AS, Due: February 26, 2001, Contact: Charles Karnella (808) 673-2937.

Revision of FR notice published on 01/12/2001: Contact Person's Phone Number Changed from 202-482-5916 to 808-673-2937. This amended notice should have appeared in the FR on 01/26/2001.

Dated: January 30, 2001.
Joseph C. Montgomery,
Director, NEPA Compliance Division, Office of Federal Activities.

[FR Doc. 01-2881 Filed 2-1-01; 8:45 am]

BILLING CODE 6560-50-U